DEPARTMENT OF JUSTICE

[OMB Number 1100-NEW]

Agency Infromation Collection Activtices: Proposed eCollection eComments Requested; New Collection: Law Enforcement Agency Certifications for Department of Justice Funding

AGENCY: Office of Community Oriented Policing Services, Department of Justice.

ACTION: 30-Day notice.

SUMMARY: The Department of Justice (DOJ), Office of Community Oriented Policing Services (COPS Office) will be submitting the following emergency information collection request to the Office of Management and Budget (OMB) for review and approval in accordance with the Paperwork Reduction Act of 1995.

DATES: Comments are encouraged and will be accepted for 30 days until February 22, 2021.

FOR FURTHER INFORMATION CONTACT: If you have additional comments especially on the estimated public burden or associated response time please contact Shelley S. Hyland, Supervisory Program Specialist, Office of Community Oriented Policing Services, 145 N Street NE, Washington, DC 20503 (email: shelley.hyland2@usdoj.gov; telephone: 202-598-1826). If you are simply providing public comments, please forward them directly to Lashon M. Hilliard, COPS PRA Program Manager, 145 N Street NE, Washington, DC 20503 (email: lashon.hilliard@usdoj.gov; 202-305-5245).

SUPPLEMENTARY INFORMATION: Written comments and suggestions from the public and affected agencies concerning the proposed collection of information are encouraged. Your comments should address one or more of the following four points:

• Evaluate whether the proposed collection of information is necessary for the proper performance of the functions of the Office of Community Oriented Policing Services, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

(1) Type of Information Collection: Emergency request.

(2) The Title of the Form/Collection: Law Enforcement Agency Certifications for Department of Justice Funding

(3) The agency form number, if any, and the applicable component of the Department sponsoring the collection: There will be no form number. The applicable component within the Department of Justice is the Office of Community Oriented Policing Services.

(4) Affected public who will be asked or required to respond, as well as a brief abstract: Respondents will be staff from designated independent credentialing bodies. On June 16, 2020, President Donald J. Trump issued E.O. 13929 on Safe Policing for Safe Communities, which requires local, state, and university/college law enforcement agencies seeking Department of Justice discretionary funding to meet two use of force requirements: (1) The applying agency maintains use of force policies that adhere to all applicable federal, state, and local laws; and (2) the applying agency maintains use of force policies that prohibit the use of choke holds, except in situations where the use of deadly force is allowed by law. Per guidance issued by the Attorney General on E.O. 13929, independent credentialing bodies are to submit a list of certified agencies to the Office of Community Oriented Policing Services by January 31st in the funding year. Respondents are asked to supply the following information for each certified agency: Originating Record Identifier (ORI), Employee Identification Number (EIN), Data Universal Number System (DUNS), name of law enforcement agency, city, state and zip code of where law enforcement agency is located, title of the law enforcement agency's chief executive (e.g., sheriff, chief of police, commissioner), chief executive's name, and date law enforcement agency received certification for E.O. 13929.

(5) An estimate of the total number of respondents and the amount of time estimated for an average respondent to respond: The COPS Office estimates that 52 independent credentialing bodies will respond (49 state agencies and 3 national organizations). The COPS Office estimates compiling the lists of certified agencies will require approximately 4 hours over three years for each of the independent credentialing bodies.

(6) An estimate of the total public burden (in hours) associated with the collection: There is an estimated 217 total burden hours associated with this collection.

If additional information is required contact: Melody Braswell, Department Clearance Officer, United States Department of Justice, Justice Management Division, Policy and Planning Staff, Two Constitution Square, 145 N Street NE, 3E.405A, Washington, DC 20530.

Dated: January 14, 2021.
Melody Braswell,
Department Clearance Officer for PRA, U.S. Department of Justice.

[FR Doc. 2021-01216 Filed 1-19-21; 8:45 am]

BILLING CODE 4410-02-P